INTERNATIONAL TRADE COMMISSION

[Investigation No. 337-TA-848]

Certain Radio Frequency Integrated Circuits and Devices Containing Same; Notice of Commission Determination Not To Review an Initial Determination Terminating the Investigation in its Entirety

AGENCY: U.S. International Trade Commission.

ACTION: Notice.

SUMMARY: Notice is hereby given that the U.S. International Trade Commission has determined not to review the presiding administrative law judge's (“ALJ”) initial determination (“ID”) (Order No. 9) granting the complainant's unopposed motion to terminate the investigation in its entirety based on the withdrawal of the complaint.

FOR FURTHER INFORMATION CONTACT: Jia Chen, Office of the General Counsel, U.S. International Trade Commission, 500 E Street SW., Washington, DC 20436, telephone (202) 708-4737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 13, 2012, based on a complaint filed by Peregrine Semiconductor Corporation (“Peregrine”) of San Diego, California. 77 FR 35427 (Jun. 13, 2012). The complaint alleges violations of Section 337 of the Tariff Act of 1930, as amended, 19 U.S.C. 1337, by reason of infringement of certain claims of U.S. Patent Nos. 7,910,993; 7,123,898; 7,460,852; 7,796,969; and 7,860,499. The complaint further alleges the existence of a domestic industry. The Commission's notice of investigation named as respondents RF Micro Devices, Inc. of Greensboro, North Carolina; Motorola Mobility, Inc. of Libertyville, Illinois; HTC Corporation of Taiwan; and HTC America, Inc. of Bellevue, Washington (collectively “Respondents”).

On October 11, 2012, complainant Peregrine filed an unopposed motion pursuant to Commission Rule 210.21(a)(1) to terminate the investigation on the basis of withdrawal of the complaint. The motion stated that neither Respondents nor the Commission Investigative Staff oppose the motion. The motion also stated that there are no other agreements, written or oral, express or implied, between the parties concerning the subject matter of this investigation. The motion requested that the procedural schedule in the investigation be suspended pending a ruling by the Commission on the subject ID.

On October 15, 2012, the ALJ issued the subject ID granting the motion terminating the investigation in its entirety and staying the procedural schedule pending the Commission's final determination on the motion. No petitions for review were received.

The Commission has determined not to review the ID.

The authority for the Commission's determination is contained in section 337 of the Tariff Act of 1930, as amended (19 U.S.C. 1337), and in section 210.42 of the Commission's Rules of Practice and Procedure (19 CFR 210.42).

Issued: November 8, 2012.
By order of the Commission.
Lisa R. Barton,
Secretary to the Commission.

[FR Doc. 2012-27645 Filed 11-13-12; 8:45 am]

BILLING CODE 7020-02-P